DEPARTMENT OF HEALTH AND HUMAN SERVICES

Food and Drug Administration

21 CFR Parts 510, 520, 522, 524, and 558

[Docket No. FDA-2014-N-0002]

New Animal Drugs; Change of Sponsor

AGENCY: Food and Drug Administration, HHS.

ACTION: Final rule.

SUMMARY: The Food and Drug Administration (FDA) is amending the animal drug regulations to reflect a change of sponsor for 57 approved new animal drug applications (NADAs) and 14 approved abbreviated new animal drug applications (ANADAs) from Elanco Animal Health, A Division of Eli Lilly & Co. to Elanco US, Inc.

DATES: This rule is effective July 26, 2016.

FOR FURTHER INFORMATION CONTACT: Steven D. Vaughn, Center for Veterinary Medicine (HFV-100), Food and Drug Administration, 7519 Standish Pl., Rockville, MD 20855, 240-402-0571, steven.vaughn@fda.hhs.gov.

SUPPLEMENTARY INFORMATION: Elanco Animal Health, A Division of Eli Lilly & Co., Lilly Corporate Center, Indianapolis, IN 46285 has informed FDA that it has transferred ownership of, and all rights and interest in, the 71 approved NADAs and ANADAs in table 1 to Elanco US, Inc., 2500 Innovation Way, Greenfield, IN 46140.

Table 1—NADAs and ANADAs Transferred From Elanco Animal Health, a Division of Eli Lilly & Co. to Elanco US, Inc.
File No. | Product name | 21 CFR Section
010-918 | HYGROMIX 8 (hygromycin B) Type A medicated article | 558.274
011-948 | HYGROMIX 2.4 (hygromycin B) Type A medicated article | 558.274
012-491 | TYLAN 100 (tylosin) Injection | 522.2640
012-548 | TYLAN (tylosin phosphate)/HYGROMIX (hygromycin B) | 558.274
012-965 | TYLAN (tylosin) Injection | 522.2640
013-076 | TYLAN (tylosin tartrate) Soluble Powder | 520.2640
013-162 | TYLAN Premix No. 10 (tylosin phosphate) Type A medicated article | 558.625
013-388 | TYLAN (tylosin phosphate)/HYGROMIX (hygromycin B) | 558.274
015-166 | TYLAN 100 Premix (tylosin phosphate) Type A medicated article | 558.625
038-878 | COBAN 45, 60, 90, 110 (monensin) Type A medicated article | 558.355
041-275 | TYLAN 40 Sulfa-G (tylosin phosphate and sulfamethazine) Type A medicated article | 558.630
047-933 | COBAN (monensin)/BACIFERM (bacitracin Zn) | 558.355
049-463 | COBAN (monensin)/BMD (bacitracin methylenedisalicyclate) | 558.355
095-735 | RUMENSIN 80 and 90 (monensin) Type A medicated article | 558.355
104-646 | RUMENSIN (monensin)/TYLAN (tylosin phosphate) | 558.355
106-964 | APRALAN (apramycin sulfate) Soluble Powder | 520.110
110-315 | COMPONENT E-C or E-S (progesterone and estradiol benzoate) with TYLAN | 522.1940
115-732 | STRESNIL (azaperone) Injection | 522.150
118-123 | COMPUDOSE 200 (estradiol); ENCORE (COMPUDOSE 400) | 522.840
118-980 | MONTEBAN (narasin) Type A medicated article | 558.363
126-050 | APRALAN 75 (apramycin sulfate) Soluble Powder | 520.110
127-507 | TYLAN 5, 10, 20, 40 Sulfa-G (tylosin phosphate and sulfamethazine) Type A medicated article | 558.630
130-736 | COBAN (monensin) Type A medicated article | 558.355
135-468 | Nicarbazin Type A medicated article | 558.366
135-906 | COMPONENT E-H (estradiol benzoate and testosterone propionate) with TYLAN | 522.842
138-952 | MAXIBAN (narasin and nicarbazin) Type A medicated article | 558.366
140-863 | PAYLEAN 9 and 45 (ractopamine HCl) Type A medicated article | 558.500
140-872 | POSILAC (sometribove Zn) Injectable Suspension | 522.2112
140-926 | BMD (bacitracin methylenedisalicyclate)/MAXIBAN (narasin and nicarbazin) | 558.366
140-929 | MICOTIL 300 (tilmicosin phosphate) Injectable Solution | 522.2471
140-937 | BMD (bacitracin methylenedisalicyclate)/COBAN (monensin) | 558.355
140-942 | FLAVOMYCIN (bambermycins)/MAXIBAN (narasin and nicarbazin) | 558.366
140-947 | LINCOMIX (lincomycin HCl)/MAXIBAN (narasin and nicarbazin) | 558.366
140-955 | COBAN (monensin)/FLAVOMYCIN (bambermycins) | 558.355
141-064 | PULMOTIL 90 (tilmicosin phosphate) Type A medicated article | 558.618
141-277 | COMFORTIS (spinosad) Tablets | 520.2130
141-298 | SUROLAN (miconazole nitrate, polymyxin B sulfate, prednisolone acetate) Otic Suspension | 524.1445
141-321 | TRIFEXIS (spinosad and milbemycin oxime) Tablets | 520.2134
141-110 | COBAN (monensin)/STAFAC (virginiamycin) | 558.355
141-164 | COBAN (monensin)/TYLAN (tylosin phosphate) | 558.355
141-170 | MONTEBAN (narasin)/TYLAN (tylosin phosphate) | 558.363
141-172 | PAYLEAN (ractopamine HCl)/TYLAN (tylosin phosphate) | 558.500
141-198 | TYLAN (tylosin phosphate)/BIO-COX (salinomycin sodium) | 558.550
141-221 | OPTAFLEXX 45 (ractopamine HCl) Type A medicated article | 558.500
141-224 | OPTAFLEXX (ractopamine HCl)/RUMENSIN (monensin)/TYLAN (tylosin phosphate) | 558.500
141-225 | OPTAFLEXX (ractopamine HCl) RUMENSIN (monensin) | 558.500
141-234 | OPTAFLEXX (ractopamine HCl)/RUMENSIN (monensin)/MGA (melengestrol acetate) | 558.500
141-290 | TOPMAX 9 (ractopamine HCl) Type A medicated article | 558.500
141-233 | OPTAFLEXX (ractopamine HCl)/RUMENSIN (monensin)/TYLAN (tylosin phosphate)/MGA (melengestrol acetate) | 558.500
141-301 | TOPMAX (ractopamine HCl)/COBAN (monensin) | 558.500
141-337 | RECUVYA (fentanyl) Topical Solution | 524.916
141-340 | SKYCIS 100 (narasin) Type A medicated article | 558.363
141-343 | PULMOTIL 90 (tilmicosin phosphate)/RUMENSIN 90 (monensin) | 558.618
141-361 | PULMOTIL AC (tilmicosin phosphate) Concentrate Solution | 520.2471
141-392 | IMPRESTOR (pegbovigrastim) Injection | 522.1684
141-438 | KAVAULT (avilamycin) Type A medicated article | 558.68
141-439 | INTEPRITY (avilamycin) Type A medicated article | 558.68
200-221 | COMPONENT TE-G (trenbolone acetate and estradiol); COMPONENT TE-G with TYLAN; COMPONENT TE-ID with TYLAN; COMPONENT TE-IS; COMPONENT TE-IS with TYLAN; COMPONENT TE-S; COMPONENT TE-S with TYLAN | 522.2477
200-224 | COMPONENT T-H (trenbolone acetate) with TYLAN; COMPONENT T-S with TYLAN | 522.2476
200-343 | HEIFERMAX 500 (melengestrol acetate) Type A medicated article | 558.342
200-346 | COMPONENT TE-200 (trenbolone acetate and estradiol); COMPONENT TE-200 with TYLAN; COMPONENT TE-H; COMPONENT TE-H with TYLAN, COMPONENT TE-H | 522.2477
200-375 | HEIFERMAX 500 (melengestrol acetate)/RUMENSIN (monensin)/TYLAN (tylosin phosphate) | 558.342
200-422 | HEIFERMAX 500 (melengestrol acetate) Liquid Premix/RUMENSIN (monensin) | 558.342
200-424 | HEIFERMAX (melengestrol acetate)/OPTAFLEXX (ractopamine HCl)/RUMENSIN (monensin)/TYLAN (tylosin phosphate) | 558.342
200-427 | HEIFERMAX 500 (melengestrol acetate) Liquid Premix/TYLAN (tylosin phosphate) | 558.342
200-430 | HEIFERMAX 500 (melengestrol acetate) Liquid Premix/BOVATEC (lasalocid)/TYLAN (tylosin phosphate) | 558.342
200-448 | HEIFERMAX 500 (melengestrol acetate)/OPTAFLEXX (ractopamine HCl)/RUMENSIN (monensin) | 558.500
200-451 | HEIFERMAX 500 (melengestrol acetate)/BOVATEC (lasalocid) | 558.342
200-479 | HEIFERMAX 500 (melengestrol acetate)/ZILMAX (zilpaterol)/RUMENSIN (monensin) | 558.665
200-480 | HEIFERMAX 500 (melengestrol acetate)/ZILMAX (zilpaterol)/RUMENSIN (monensin)/TYLAN (tylosin phosphate) | 558.665
200-483 | HEIFERMAX 500 (melengestrol acetate)/ZILMAX (zilpaterol) | 558.665

Accordingly, the Agency is amending the regulations in 21 CFR parts 520, 522, 524, and 558 to reflect these changes of sponsorship.

Following these changes of sponsorship, Elanco Animal Health, A Division of Eli Lilly & Co. is no longer the sponsor of any approved application. Accordingly, the regulations are being amended to remove this firm from the lists of sponsors of approved applications in 21 CFR 510.600(c).

This rule does not meet the definition of “rule” in 5 U.S.C. 804(3)(A) because it is a rule of “particular applicability.” Therefore, it is not subject to the congressional review requirements in 5 U.S.C. 801-808.

List of Subjects

21 CFR Part 510

Administrative practice and procedure, Animal drugs, Labeling, Reporting and recordkeeping requirements.

21 CFR Parts 520, 522, and 524

Animal drugs.

21 CFR Part 558

Animal drugs, Animal feeds.

Therefore, under the Federal Food, Drug, and Cosmetic Act and under authority delegated to the Commissioner of Food and Drugs and redelegated to the Center for Veterinary Medicine, 21 CFR parts 510, 520, 522, 524, and 558 are amended as follows:

PART 510—NEW ANIMAL DRUGS

1. The authority citation for part 510 continues to read as follows:

Authority: 21 U.S.C. 321, 331, 351, 352, 353, 360b, 371, 379e.

§ 510.600 [Amended]

2. In § 510.600, in the table in paragraph (c)(1), remove the entry for “Elanco Animal Health, A Division of Eli Lilly & Co.”; and in the table in paragraph (c)(2), remove the entry for “000986”.

PART 520—ORAL DOSAGE FORM NEW ANIMAL DRUGS

3. The authority citation for part 520 continues to read as follows:

Authority: 21 U.S.C. 360b.

§ 520.110 [Amended]

4. In § 520.110, in paragraph (b), remove “000986” and in its place add “058198”.

§ 520.2130 [Amended]

5. In § 520.2130, in paragraph (b), remove “000986” and in its place add “058198”.

§ 520.2134 [Amended]

6. In § 520.2134, in paragraph (b), remove “000986” and in its place add “058198”.

§ 520.2471 [Amended]

7. In § 520.2471, in paragraph (b), remove “000986” and in its place add “058198”.

§ 520.2640 [Amended]

8. In § 520.2640, in paragraph (b)(1), remove “000986” and in its place add “058198”.

PART 522—IMPLANTATION OR INJECTABLE DOSAGE FORM NEW ANIMAL DRUGS

9. The authority citation for part 522 continues to read as follows:

Authority: 21 U.S.C. 360b.

§ 522.150 [Amended]

10. In § 522.150, in paragraph (b), remove “000986” and in its place add “058198”.

§ 522.840 [Amended]

11. In § 522.840, in paragraph (b), remove “000986” and in its place add “058198”.

§ 522.842 [Amended]

12. In § 522.842, in paragraph (a)(2), remove “000986” and in its place add “058198”.

§ 522.1684 [Amended]

13. In § 522.1684, in paragraph (b), remove “000986” and in its place add “058198”.

§ 522.1940 [Amended]

14. In § 522.1940, in paragraph (a)(2), remove “000986” and in its place add “058198”.

§ 522.2112 [Amended]

15. In § 522.2112, in paragraph (b), remove “000986” and in its place add “058198”.

§ 522.2471 [Amended]

16. In § 522.2471, in paragraph (b), remove “000986” and in its place add “058198”.

§ 22.2476 [Amended]

17. In § 522.2476, in paragraph (a)(1), remove “021641” and in its place add “058198”.

§ 522.2477 [Amended]

18. In § 522.2477, in paragraph (b)(1), remove “000986” and in its place add “058198”.

§ 522.2640 [Amended]

19. In § 522.2640, in paragraph (b)(1), remove “000986” and in its place add “058198”.

PART 524—OPHTHALMIC AND TOPICAL DOSAGE FORM NEW ANIMAL DRUGS

20. The authority citation for part 524 continues to read as follows:

Authority: 21 U.S.C. 360b.

§ 524.916 [Amended]

21. In § 524.916, in paragraph (b), remove “000986” and in its place add “058198”.

§ 524.1445 [Amended]

22. In § 524.1445, in paragraph (b), remove “000986” and in its place add “058198”.

PART 558—NEW ANIMAL DRUGS FOR USE IN ANIMAL FEEDS

23. The authority citation for part 558 continues to read as follows:

Authority: 21 U.S.C. 354, 360b, 360ccc, 360ccc-1, 371.

§ 558.68 [Amended]

24. In § 558.68, in paragraph (b), remove “000986” and in its place add “058198”.

§ 558.274 [Amended]

25. In § 558.274, in paragraph (a)(1), remove “000986” and in its place add “058198”; and in paragraphs (c)(1)(i) and (ii) and (c)(2)(i) and (ii), in the “Sponsor” column, remove “000986” and in its place add “058198”.

§ 558.342 [Amended]

26. In § 558.342, in paragraph (b)(2), remove “000986” and in its place add “058198”; and in paragraphs (e)(1)(i) through (iv) and (e)(1)(ix) and (x), in the “Sponsor” column, remove “000986” and in its place add “058198”.

§ 558.355 [Amended]

27. In § 558.355, in paragraphs (b)(1) and (2), (b)(4) through (9), (b)(11) and (12), and (b)(14), in paragraphs (f)(1)(xiii)(b), (f)(1)(xxi)(b), (f)(1)(xxii)(b), (f)(1)(xxviii)(b), (f)(1)(xxix)(b), (f)(1)(xxxi)(b), paragraphs (f)(3)(i)(b)(2)(iii), (f)(3)(ii)(b), (f)(3)(xii)(b), in paragraphs (f)(4)(ii)(b) and (f)(4)(iii)(b), and in paragraph (f)(6)(i)(b)(2)(iii), remove “000986” and in its place add “058198”.

§ 558.363 [Amended]

28. In § 558.363, in paragraphs (a)(1), (3), and (8), and in paragraphs (d)(1)(ii)(B), (d)(1)(iii)(B), (d)(1)(iv)(B), (d)(1)(v)(B), and (d)(1)(vi)(B), remove “000986” and in its place add “058198”.

§ 558.366 [Amended]

29. In § 558.366, in paragraph (b), remove “000986” and in its place add “058198”; and in paragraph (d), in the six row entries beginning in the “Nicarbazin in grams per ton” column with “27 to 45”, in the “Limitations” and “Sponsor” columns, remove “000986” wherever it occurs and in its place add “058198”.

§ 558.500 [Amended]

30. In § 558.500, in paragraph (b), remove “000986 and 054771” and in its place add “054771 and 058198”; and in paragraphs (e)(1)(i) through (iv) and (e)(2)(i) through (xiii), in the “Limitations” and “Sponsor” columns, remove “000986” wherever it occurs and in its place add “058198”; and in paragraphs (e)(3)(i) through (iv), in the “Sponsor” column, remove “000986” wherever it occurs and in its place add “058198”.

§ 558.550 [Amended]

31. In § 558.550, in paragraph (d)(1)(xxii)(B), remove “000986 and 016592” and in its place add “016592 and 058198”.

§ 558.618 [Amended]

32. In § 558.618, in paragraph (b), remove “000986 and 016592” and in its place add “016592 and 058198”; and in paragraphs (e)(1)(i) and (e)(2)(i) through (iii), in the “Sponsor” column, remove “000986” and in its place add “058198”.

§ 558.625 [Amended]

33. In § 558.625, in paragraph (b)(1), remove “To 000986” and in its place add “No. 058198”.

§ 558.630 [Amended]

34. In § 558.630, in paragraph (b)(1), remove “000986” and in its place add “058198”.

§ 558.665 [Amended]

35. In § 558.665, in paragraphs (e)(2), (3), (4), (5), (6), (8), (10), (11), and (12), in the “Limitations” column, remove “000986” wherever it occurs and in its place add “058198”; and in paragraphs (e)(2), (3), (4), and (6), in the “Sponsor” column, remove “000986” and in its place add “058198”.

Dated: July 20, 2016.
William T. Flynn,
Acting Director, Center for Veterinary Medicine.

[FR Doc. 2016-17501 Filed 7-25-16; 8:45 am]

BILLING CODE 4164-01-P